DEPARTMENT OF EDUCATION

RIN 1865-ZA00

Office of Safe and Drug-Free Schools—Mentoring Programs

AGENCY: Office of Safe and Drug-Free Schools, Department of Education .

ACTION: Notice of proposed priorities, requirements, and selection criteria.

SUMMARY: We propose priorities, requirements, and selection criteria under the Mentoring Programs discretionary grant competition. We may use these priorities, requirements, and selection criteria for competitions in FY 2004 and later years.

DATES: We must receive your comments on or before April 14, 2004.

ADDRESSES: Address all comments about these proposed priorities, requirements and selection criteria to Bryan Williams, U.S. Department of Education, 400 Maryland Avenue, SW., room 3E259, Washington, DC 20202-6450. If you prefer to send your comments through the Internet, please use the following address: bryan.williams@ed.gov.

You must include the phrase “Mentoring Programs-Comments on FY 2004 Proposed Priorities” in the subject line of your electronic message.

FOR FURTHER INFORMATION CONTACT: Bryan Williams (202) 260-2391.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed priorities, requirements, and selection criteria. To ensure that your comments have maximum effect in developing the notice of final priorities, requirements, and selection criteria, we urge you to identify clearly the specific proposed priority, requirement, or selection criterion that each comment addresses.

We invite you to assist us in complying with the specific requirements of Executive Order 12866 and its overall requirement of reducing regulatory burden that might result from these proposed priorities, requirements, and selection criteria. Please let us know of any further opportunities we should take to reduce potential costs or increase potential benefits while preserving the effective and efficient administration of the program.

During and after the comment period, you may inspect all public comments about these proposed priorities, requirements, and selection criteria in room 3E259, 400 Maryland Avenue, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities, requirements and selection criteria. If you want to schedule an appointment for this type of aid, please contact the person listed under FOR FURTHER INFORMATION CONTACT.

Proposed Priorities, Requirements, and Selection Criteria

We will announce the final priorities, requirements, and selection criteria in a notice in the Federal Register. We will determine the final priorities, requirements and selection criteria after considering responses to this notice and other information available to the Department. This notice does not preclude us from proposing or funding additional priorities, requirements or selection criteria subject to meeting applicable rulemaking requirements.

Discussion of Proposed Priorities

Building on the infrastructure and support available in school settings, including private schools, these proposed priorities focus on youth who are most at risk of educational failure, dropping out of school, or involvement in criminal or delinquent activities, or who lack strong positive role models. To the extent practicable, applicants must propose programs that follow the same students for all three years of the program. New participants may be selected to replace students who are not able to continue in the program, or for other reasons related to attrition.

Proposed Priorities: We propose the following absolute and competitive preference priorities.

Proposed Absolute Priority—This priority would support projects that address the academic and social needs of children with the greatest need through school-based mentoring programs and activities and provide these students with mentors. These programs and activities must serve children with the greatest need in one or more grades 4th through 8th living in rural areas, high-crime areas, or troubled home environments, or who attend schools with violence problems.

Proposed Competitive Preference Priority—We propose a priority under which we will award five additional points to a consortium of eligible applicants that includes either: (a) At least one LEA and at least one CBO other than a school that provides services to youth and families in the community; or (b) at least one private school that qualifies as a nonprofit CBO and at least one other CBO other than a school, that provides services to youth and families in the community.

The consortium must designate one member of the group to apply for the grant, unless the consortium is itself eligible as a partnership between a local educational agency and a nonprofit, community-based organization. To receive this competitive preference, the applicant must clearly identify the agencies that comprise the consortium and must include a detailed plan of their working relationship and of the activities that each member will perform, including a project budget that reflects the contractual disbursements to the members of the consortium. For the purpose of this priority, a “consortium” means a group application in accordance with the provisions of 34 CFR 75.127 through 75.129.

Proposed Eligibility Requirement for All Applicants

The No Child Left Behind Act (NCLB) embodies the principles of the Government Performance and Results Act (GPRA) and its focus on performance and accountability. It demands achievement in return for investment, and requires a system of performance measures throughout the educational enterprise. The NCLB act and its principles of reform—accountability, flexibility, expanded parental options and doing what works—are also the foundation of the Department's strategic plan. This plan states the measurable goals and objectives that the Department intends to achieve, and mandates a performance and accountability system for this agency as well as its grantees. Therefore, we propose that, to be eligible for funding, an applicant must include in its application an assurance that it will establish clear, measurable performance goals, and will collect and report to the Department data related to the established GPRA performance indicators for the Mentoring Programs grant competition. We will reject any application that does not contain this assurance.

Proposed Application Requirement for Community-Based Organizations

Because the focus of this program is school-based mentoring, we propose that each community-based organization (CBO) that is eligible to apply for funding provide a letter of agreement to participate from an LEA or private school. The agreement (not a partnership as described in the competitive preference priority) must delineate the roles and responsibilities of each entity, and must contain the signatures of the authorized representative from the LEA or private school where program activities will primarily be located, and the authorized representative of the CBO that will provide program services.

Proposed Definitions

The statute does not define the term “school-based mentoring.” We propose to define the term “school-based mentoring” to mean mentoring activities that occur primarily on school grounds, with teachers, counselors, or other school staff assisting in the identification and referral of participants.

We propose to define the term “core academic subjects” to mean English, reading or language arts, mathematics, science, foreign languages, civics and government, economics, arts, history, and geography.

Proposed Performance Measures Under the Government Performance and Results Act (GPRA)

We propose the following key performance measures for assessing the effectiveness of this program: (1) The percentage of student/mentor matches that are sustained for a period of twelve months will increase; (2) The percentage of mentored students who demonstrate improvement in core academic subjects as measured by grade point average after 12 months will increase; and (3) The percentage of mentored students whose number of unexcused absences will decrease.

Proposed Selection Criteria

The Secretary proposes to use the following selection criteria to evaluate applications under this competition. The maximum score for all of these criteria is 100 points. The maximum score for each criterion is indicated in parentheses.

(1) Need for the Project. (10 points)

In determining the need for the proposed project, the following factor is considered:

(a) The magnitude and severity of problems that will be addressed by the project, including the number of youth to be served who: (i) are at risk of educational failure or dropping out of school, (ii) are involved in criminal, delinquent, or gang activities, or (iii) lack strong, positive role models. (10 points)

(2) Quality of the Project Design. (30 points)

In determining the quality of the design of the proposed project, the following factors are considered:

(a) The degree to which the applicant proposes a high quality mentoring project that provides for, but is not limited to: (1) A low student-to-mentor ratio (one-to-one, where practicable), (2) frequent contacts between mentors and the children they mentor; and (3) mentoring relationships of 12 months or more duration. (10 points)

(b) The quality of mentoring services that will be provided, including the quality of services designed to improve academic achievement in core academic subjects, strengthen school bonding (positive commitment and attachment to school), and promote pro-social norms and behaviors, and the resources, if any, the eligible entity will dedicate to providing children with opportunities for job training or postsecondary education. (10 points)

(c) The capability of each eligible entity to effectively implement its mentoring program, and the degree to which parents, teachers, community-based organizations, and the local community have participated, or will participate, in the design and implementation of the proposed mentoring program. (10 points)

(3) Quality of the Management Plan. (35 points)

In determining the quality of the management plan, the following factors are considered:

(a) The quality of the system that will be used to manage and monitor mentor reference checks, including, at a minimum, child and domestic abuse record checks and criminal background checks. (10 points)

(b) The quality of the training that will be provided to mentors, including orientation, follow-up, and support of each match between mentor and child. (10 points)

(c) The quality of the applicant's plan to recruit and retain mentors, including outreach, criteria for recruiting mentors, terminating unsuccessful matches, and replacing mentors, if necessary. (5 points)

(d) The extent to which the applicant provides a comprehensive plan to match mentors with students, based on the needs of the children, including criteria for matches, and the extent to which teachers, counselors, and other school staff are involved. (5 points)

(e) The extent to which the applicant demonstrates the ability to carefully monitor and support the mentoring matches, including terminating matches when necessary and reassigning students to new mentors, and the degree to which the mentoring program will continue to serve children from the 9th grade through graduation from secondary school, as needed. (5 points)

(4) Quality of Project Personnel. (10 points)

In determining the quality of project personnel, the Secretary considers:

(a) The qualifications and relevant training of key staff, including time commitments, and experience in mentoring services and case management. (10 points)

(5) Quality of the Project Evaluation. (15 points)

In determining the quality of the evaluation, the following factors are considered:

(a) The extent to which the methods of evaluation will provide performance feedback to the Department, grantees, and mentors, and permit periodic assessment of progress toward achieving intended outcomes, including the GPRA performance measures for the Mentoring Program grant competition. (5 points)

(b) The extent to which the methods of evaluation include the use of objective performance measures that are clearly related to the intended outcomes of the project and will produce quantitative and qualitative data on the GPRA performance measures for the Mentoring Program grant competition. (10 points)

Executive Order 12866

This notice of proposed priorities, requirements and selection criteria has been reviewed in accordance with Executive Order 12866. Under the terms of the order, we have assessed the potential costs and benefits of this regulatory action.

The potential costs associated with the notice of proposed priorities, requirements and selection criteria are those resulting from statutory requirements and those we have determined as necessary for administering this program effectively and efficiently.

In assessing the potential costs and benefits—both quantitative and qualitative—of this notice of proposed priorities, requirements and selection criteria, we have determined that the benefits of the proposed priorities, requirements and selection criteria justify the costs.

Summary of potential costs and benefits: The potential cost associated with these proposed priorities, requirements and selection criteria is minimal while the benefits are significant. Grantees may anticipate costs related to completing the application process in terms of staff time, copying, and mailing or delivery. The use of E-Application technology may significantly reduce mailing and copying costs.

The primary benefit of these proposed priorities, requirements and selection criteria is that grantees can support school-based mentoring programs that address the academic and social needs of at-risk youth.

Intergovernmental Review

This program is subject to Executive order 12372 and the regulations in 34 CFR part 79. One of the objectives of the Executive order is to foster an intergovernmental partnership and a strengthened federalism. The Executive order relies on processes developed by State and local governments for coordination and review of proposed Federal financial assistance.

This document provides early notification of our specific plans and actions for this program.

Program Authority: 20 U.S.C. 7140.

Electronic Access to This Document

You may view this document, as well as all other Department of Education documents published in the Federal Register, in text or Adobe Portable Document Format (PDF) on the Internet at the following site: http://www.ed.gov/news/fedregister.

To use PDF, you must have the Adobe Acrobat Reader, which is available free at this site. If you have questions about using PDF, call the U.S. Government Printing Office (GPO) toll free at (888) 293-6498; or in the Washington, DC area at (202) 512-1530.

Note: The official version of this document is the document published in the Federal Register. Free Internet access to the official edition of the Federal Register and the Code of Federal Regulations is available on GPO Access at: http://www.gpoaccess.gov/index.html.

(Catalog of Federal Domestic Assistance Number 84.184B Office of Safe and Drug-Free Schools—Mentoring Programs)

Dated: March 9, 2004.
Deborah A. Price,
Deputy Under Secretary for Office of Safe and Drug-Free Schools.

[FR Doc. 04-5820 Filed 3-12-04; 8:45 am]

BILLING CODE 4000-01-P